DEPARTMENT OF AGRICULTURE

Food Safety and Inspection Service

[Docket No. 02-002N]

International Standard-Setting Activities

Correction

In notice document 02-13527 beginning on page 37760 in the issue of Thursday, May 30, 2002, make the following corrections:

On page 37766, in the third column, 5th and 6th paragraphs should read:

“ Alternate Delegate”

“ Dr. Richard L. Ellis, Special Assistant, Office of the Deputy Administrator, Office of Public Health and Science, Food Safety and Inspection Service, U.S. Department of Agriculture, Room 322 Aerospace Center, 1400 Independence Ave. SW, Washington, DC 20250-3700, Phone: (202) 690-6474; Fax: (202) 690-6557, E-mail: richard.ellis@usda.gov”

“Codex Committee on Food Additives and Contaminants(Host Government—The Netherlands) ”

“U.S. Delegate”

“Dr. Terry C. Troxell, Director, Office of Plant and Dairy Foods and Beverages, Center for Food Safety and Applied Nutrition (HFS-300), Food and Drug Administration, Harvey W. Wiley Federal Building, 5100 Paint Branch Parkway, College Park, MD 20740-3835, Phone: (301) 436-1700; Fax: (301) 436-2632, E-mail: Terry.Troxell@cfsan.fda.gov”

[FR Doc. C2-13527 Filed 6-10-02; 8:45 am]

BILLING CODE 1505-01-D